DEPARTMENT OF COMMERCE

Bureau of Industry and Security

Action Affecting Export Privileges; Green Supply, Inc.; Robert Leland Green and William Robert Green; Order Denying Export Privileges

In the Matter of: Green Supply, Inc., 3059 Audrian Road 581,) Vandalia, Missouri 63382, Respondent; Robert Leland Green, 3059 Audrian Road 581, Vandalia, Missouri 63382; William Robert Green, 3059 Audrian Road 581, Vandalia, Missouri 63382; Related Persons.

)

A. Denial of Export Privileges of Green Supply, Inc.

On January 22, 2008, in the U.S. District Court for the Eastern District of Missouri, Green Supply, Inc. (“GSI”) pled guilty to, and was convicted of, one count of violating the International Emergency Economics Power Act, (50 U.S.C. 1701 et seq.) (“IEEPA”) and one count of violating Section 38 of the Arms Export Control Act (22 U.S.C. 2778 (2000)) (“AECA”). Specifically, GSI pled guilty to knowingly and willfully exporting to persons outside the United States certain commodities which included night vision goggles, global positioning systems, and firearm scopes and sights without the required licenses, in violation of IEEPA. GSI also pled guilty to knowingly and willfully exporting to persons outside the United States firearm magazines or clips without the required licenses, in violation of the AECA. GSI was sentenced to two years probation, fined $17,500.00 and an $800.00 special assessment.

Section 766.25 of the Export Administration Regulations (“EAR” or “Regulations”) ¹ provides, in pertinent part, that “[t]he Director of the Office of Exporter Services, in consultation with the Director of the Office of Export Enforcement, may deny the export privileges of any person who has been convicted of a violation of the [Export Administration Act (“EAA”)], the EAR, of any order, license or authorization issued thereunder; any regulation, license, or order issued under the International Emergency Economic Powers Act (50 U.S.C. 1701-1706); 18 U.S.C. 793, 794 or 798; section 4(b) of the Internal Security Act of 1950 (50 U.S.C. 783(b)), or section 38 of the Arms Export Control Act (22 U.S.C. 2778).” 15 CFR 766.25(a); see also Section 11(h) of the EAA, 50 U.S.C. app. section 2410(h). The denial of export privileges under this provision may be for a period of up to 10 years from the date of the conviction. 15 CFR 766.25(d); see also 50 U.S.C. app. section 2410(h). In addition, Section 750.8 of the Regulations states that the Bureau of Industry and Security's Office of Exporter Services may revoke any Bureau of Industry and Security (“BIS”) licenses previously issued in which the person had an interest in at the time of his conviction.

¹ The Regulations are currently codified in the Code of Federal Regulations at 15 CFR Parts 730-774 (2009). The Regulations issued pursuant to the EAA (50 U.S.C. app. section 2401-2420 (2000)). Since August 21, 2001, the EAA has been in lapse and the President, through Executive Order 13222 of August 17, 2001 (3 CFR part 2001 Comp. 783 (2002)), which has been extended by successive Presidential Notices, the most recent being that of August 13, 2009 (74 FR. 41325, August 14, 2009), has continued the Regulations in effect under the International Emergency Economic Powers Act (50 U.S.C. 1701 et seq. (2000)).

I have received notice of GSI's conviction for violating the IEEPA and AECA, and have provided notice and an opportunity for GSI to make a written submission to BIS, as provided in Section 766.25 of the Regulations. I have not received a submission from GSI. Based upon my review and consultations with BIS's Office of Export Enforcement, including its Director, and the facts available to BIS, I have decided to deny GSI's export privileges under the Regulations for a period of five years from the date of GSI's conviction. I have also decided to revoke all licenses issued pursuant to the Act or Regulations in which GSI had an interest at the time of its conviction.

B. Denial of Export Privileges of Related Person

Pursuant to Sections 766.25(h) and 766.23 of the Regulations, the Director of BIS's Office of Exporter Services, in consultation with the Director of BIS's Office of Export Enforcement, may take action to name persons related to a Respondent by ownership, control, position of responsibility, affiliation, or other connection in the conduct of trade or business in order to prevent evasion of a denial order. GSI's 2009 annual report, filed with the Missouri Secretary of State on April 10, 2009 lists Robert Green as President and William Green as Secretary. William Green and Robert Green are related to GSI by ownership, control, position of responsibility, affiliation, or other connection in the conduct of trade or business. BIS believes that naming William Green and Robert Green as persons related to GSI is necessary to avoid evasion of the denial order against GSI.

As provided in Section 766.23 of the Regulations, I gave notice to William Green and Robert Green that their export privileges under the Regulations could be denied for up to 10 years due to their relationship with GSI and that BIS believes naming them as persons related to GSI would be necessary to prevent evasion of a denial order imposed against GSI. In providing such notice, I gave William Green and Robert Green an opportunity to oppose their addition to the GSI Denial Order as a related party. Having received no submission, I have decided, following consultations with BIS's Office of Export Enforcement, including its Director, to name William Green and Robert Green as Related Persons to the GSI Denial Order, thereby denying their export privileges for five years from the date of GSI`s conviction.

I have also decided to revoke all licenses issued pursuant to the Act or Regulations in which the Related Persons had an interest at the time of GSI's conviction. The five-year denial period will end on January 22, 2013.

Accordingly, it is hereby ordered

I. Until January 22, 2013, Green Supply, Inc., 3059 Audrian Road 581, Vandalia, Missouri 63382, and when acting for or on behalf of GSI, its successors or assigns, agents, or employees, (“the Denied Person”) and the following persons related to the Denied Person as defined by Section 766.23 of the Regulations: Robert Leland Green and William Robert Green, both with an address at 3059 Audrian Road 581, Vandalia, Missouri 63382, and when acting for or on their behalf, employees, agents or representatives, (“the Related Persons”) (together, the Denied Person and the Related Persons are “Persons Subject To This Order”) may not, directly or indirectly, participate in any way in any transaction involving any commodity, software or technology (hereinafter collectively referred to as “item”) exported or to be exported from the United States that is subject to the Regulations, or in any other activity subject to the Regulations, including but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

II. No person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

III. In addition to the Related Persons named above, after notice and opportunity for comment as provided in section 766.23 of the Regulations, any other person, firm, corporation, or business organization related to the Denied Person by affiliation, ownership, control, or position of responsibility in the conduct of trade or related services may also be made subject to the provisions of this Order if necessary to prevent evasion of the Order.

IV. This Order does not prohibit any export, reexport, or other transaction subject to the Regulations where the only items involved that are subject to the Regulations are the foreign-produced direct product of U.S.-origin technology.

V. This Order is effective immediately and shall remain in effect until January 22, 2013.

VI. In accordance with Part 756 of the Regulations, GSI may file an appeal of this Order with the Under Secretary of Commerce for Industry and Security. The appeal must be filed within 45 days from the date of this Order and must comply with the provisions of Part 756 of the Regulations.

VII. In accordance with Part 756 of the Regulations, the Related Person may also file an appeal of this Order with the Under Secretary of Commerce for Industry and Security.

VIII. A copy of this Order shall be delivered to the Denied Person and the Related Person. This Order shall be published in the Federal Register.

Issued this 28th day of May, 2010.
Bernard Kritzer,
Director, Office of Exporter Services.

[FR Doc. 2010-13895 Filed 6-8-10; 8:45 am]

BILLING CODE 3510-DT-P